DEPARTMENT OF THE INTERIOR

Fish and Wildlife Service

Endangered and Threatened Wildlife and Plants; Notice of Availability of Draft Conservation Plan for the Sacramento Mountains Checkerspot Butterfly (Euphydryas anicia cloudcrofti)

AGENCY: Fish and Wildlife, Interior.

ACTION: Notice of document availability.

SUMMARY: The U.S. Fish and Wildlife Service (Service) provides notice that a draft Conservation Plan for the Sacramento Mountains checkerspot butterfly (Euphydryas anicia cloudcrofti) (butterfly) is available for review and comment. This Conservation Plan will provide guidance for the conservation and management of the species and its habitat.

DATES: Comments on the draft Conservation Plan must be submitted directly to the Service (see ADDRESSES section) on or before November 8, 2004 or at the public meeting to be held in October of 2004.

ADDRESSES: The Service will host a public informational session in the Village Council Chambers Room at 201 Burro Street Cloudcroft, New Mexico, on October 13, 2004, from 5 p.m. to 7 p.m.

If you wish to comment via mail, comments and materials should be addressed to the Threatened and Endangered Species Division, Fish and Wildlife Service Southwest Regional Office, Ecological Services, P.O. Box 1306, Albuquerque, New Mexico, 87103-1306. Comments and materials received will be made available for public inspection during normal business hours, by appointment, at the above address. A copy of this document has been posted on the Fish and Wildlife Service Web site at http://www.fws.gov.

FOR FURTHER INFORMATION CONTACT: Sarah E. Rinkevich, Fish and Wildlife Biologist, or Tracy Scheffler, Fish and Wildlife Biologist, Fish and Wildlife Service, Southwest Regional Office, at the above address (505) 248-6920.

SUPPLEMENTARY INFORMATION:

Background

The Sacramento Mountains checkerspot butterfly is found only in high elevation mountain-meadows within the Sacramento Mountains of central New Mexico. In January 1999, the Southwest Center for Biological Diversity petitioned the Service to emergency list the Sacramento Mountains checkerspot butterfly as endangered. The Service published a notice on December 27, 1999, finding that the petition presented substantial information to indicate that listing may be warranted, but that emergency listing was not warranted. The Service then commenced a status review of the species. On September 6, 2001, the Fish and Wildlife Service published a 12-month finding and proposed rule to list the Sacramento Mountains checkerspot butterfly as endangered with critical habitat (66 FR 46575). Habitat loss from proposed development, drought and wildfire, and threats from collection were stated as the reasons for the proposed listing.

In response to growing interest by the local community to conserve the butterfly, the Service began coordination in 2004 with local and Federal partners to assess current threats to the species and develop a draft Conservation Plan. The goal of the draft Conservation Plan is to provide conservation and management recommendations for public and private lands within the range of the butterfly as necessary to alleviate threats to the species and its habitat. Specific conservations actions in the draft Conservation Plan include time and cost estimates and responsible partners.

The Village of Cloudcroft, Otero County, Forest Service, and the Service have signed a Memorandum of Understanding to demonstrate the commitments of the parties to the implementation of the Conservation Plan.

Public Comments Solicited

The Service solicits written comments on the draft Conservation Plan. All comments received by the date specified above will be considered prior to approval of the Conservation Plan. Our practice is to make comments, including names and home addresses of respondents, available for public review during regular business hours. Individual respondents may request that we withhold their home address, which we will honor to the extent allowable by law. If you wish us to withhold your name or address, you must state this request prominently at the beginning of your comments. However, we will not consider anonymous comments. To the extent consistent with applicable law, we will make all submissions from organizations or businesses, and from individuals identifying themselves as representatives or officials of organizations or businesses, available for public inspection in their entirety.

Authority: The authority for this action is the Endangered Species Act of 1973 (16 U.S.C. 1531 et seq.).

Dated: September 3, 2004.
Esther M. Pringle,
Acting Regional Director, Region 2, Fish and Wildlife Service.

[FR Doc. 04-22554 Filed 10-6-04; 8:45 am]

BILLING CODE 4310-55-P